SMALL BUSINESS ADMINISTRATION

Reporting and Recordkeeping Requirements Under OMB Review

AGENCY: Small Business Administration.

ACTION: 30-Day notice.

SUMMARY: The Small Business Administration (SBA) is seeking approval from the Office of Management and Budget (OMB) for the information collection described below. In accordance with the Paperwork Reduction Act and OMB procedures, SBA is publishing this notice to allow all interested member of the public an additional 30 days to provide comments on the proposed collection of information.

DATES: Submit comments on or before August 5, 2021.

ADDRESSES: Written comments and recommendations for this information collection request should be sent within 30 days of publication of this notice to www.reginfo.gov/public/do/PRAMain. Find this particular information collection request by selecting “Small Business Administration”; “Currently Under Review,” then select the “Only Show ICR for Public Comment” checkbox. This information collection can be identified by title and/or OMB Control Number.

FOR FURTHER INFORMATION CONTACT: You may obtain a copy of the information collection and supporting documents from the Agency Clearance Office at Curtis.Rich@sba.gov; (202) 205-7030, or from www.reginfo.gov/public/do/PRAMain.

SUPPLEMENTARY INFORMATION: As authorized by the Coronavirus Preparedness and Response Supplemental Appropriations Act, 2020, the Coronavirus Aid, Relief, and Economic Security Act (CARES Act), the Paycheck Protection Program and Health Care Enhancement Act, and the new Economic Aid to Hard-Hit Small Businesses, Nonprofits, and Venues Act, the Small Business Administration (SBA) has been providing COVID-19 Economic Injury Disaster Loans to provide working capital for small businesses, private nonprofits, and small agricultural enterprises who suffered substantial economic injury as a result of the Coronavirus pandemic and Paycheck Protection Program (PPP) loans to help small businesses retain their employees during the economic downturn caused by the pandemic as well as to help businesses cover a portion of their standard operating expenses during the pandemic. SBA has received more than 18 million loan applications and more than 10 million PPP loan applications, and a small percentage of those applications may be a result of identity theft. In an effort to ensure SBA is taking the appropriate action for individuals who have indicated they have been the victim of identity theft, the individual will need to provide an affidavit to SBA indicating no involvement in the filing of the loan application, and that they did not receive or have knowledge of who received the loan funds. The information will be collected from those individuals (or their representative) who, without their knowledge or authorization, had an application submitted to SBA utilizing their personal information. SBA will review the information contained in the affidavit to determine whether there was identity theft involved, and if so, SBA will take the necessary steps to stop all billing statements, release any UCC Security filings, and to ensure that loan information will not be publicly reported in the name of the identity theft victim. In addition, this affidavit will be provided to the Office of Inspector General and other enforcement agencies in any legal action going forward. The SBA requested and received emergency approval under 5 CFR 1320.13 for this information collection.

Solicitation of Public Comments

Comments may be submitted on (a) whether the collection of information is necessary for the agency to properly perform its functions; (b) whether the burden estimates are accurate; (c) whether there are ways to minimize the burden, including through the use of automated techniques or other forms of information technology; and (d) whether there are ways to enhance the quality, utility, and clarity of the information.

OMB Control Number: 3245-0418.

Title: Declaration of Identify Theft.

SBA Form Number: SBA Form 3513.

Description of Respondents: SBA Loan Applicants.

Estimated Number of Respondents: 60,000.

Estimated Annual Responses: 60,000.

Estimated Annual Hour Burden: 15,000.

Curtis Rich,
Management Analyst.

[FR Doc. 2021-14307 Filed 7-2-21; 8:45 am]

BILLING CODE 8026-03-P